DEPARTMENT OF EDUCATION

[Docket No. ED-2012-ICCD-0055]

Agency Information Collection Activities; Submission to the Office of Management and Budget for Review and approval; Comment Request; DC Choice Evaluation

AGENCY: Department of Education (ED), Institute of Education Sciences (IES).

ACTION: Notice.

SUMMARY: In accordance with the Paperwork Reduction Act of 1995 (44 U.S.C. chapter 3501 et seq.), ED is proposing a reinstatement with change of a previously approved information collection.

DATES: Interested persons are invited to submit comments on or before March 18, 2013.

ADDRESSES: Comments submitted in response to this notice should be submitted electronically through the Federal eRulemaking Portal at http://www.regulations.gov by selecting Docket ID number ED-2012-ICCD-0055 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: DC Choice Evaluation.

OMB Control Number: 1850-0800.

Type of Review: Reinstatement with change of a previously approved information collection.

Respondents/Affected Public: State, Local, or Tribal Governments.

Total Estimated Number of Annual Responses: 3,057.

Total Estimated Number of Annual Burden Hours: 1,009.

Abstract: This information collection requests clearance approval from the Office of Management and Budget (OMB) for the collection of data under the Evaluation of the Effectiveness of the Scholarships for Opportunity and Results (SOAR) Act Program. In particular, we are requesting approval for: (1) parent, student, and principal surveys, and (2) records abstraction from DC Public School (DCPS), from the District of Columbia Public Charter School Board, and private school administrative files. The study design, data collection plan, instruments, and levels of burden are consistent with forms clearance packages approved by OMB for the previous evaluation of this program (#1850-0800).

The Scholarships and Opportunities for Results (SOAR) Act H.R. 1473 (Pub. L.112-10), signed into law on April 15, 2011, reauthorized the DC School Choice Incentive Act and provided for a five-year continuation of a school choice program for low-income residents of Washington, DC. The program, still titled the Opportunity Scholarship Program or OSP, now provides scholarships to enable low-income elementary and secondary students to attend private schools in the District of Columbia in lieu of the public schools already available to them. The OSP is operated under a grant from the U.S. Department of Education (ED) to the DC Children and Youth Investment Corporation (the Trust).

The reauthorization once again stipulated that an evaluation of the program be conducted “using the strongest possible research design for determining the effectiveness” of the program. ED awarded a contract to Westat, and its research partners, Pemberton Research and the University of California at San Diego to: (1) provide technical assistance to the program operator, particularly with respect to the design and conduct of the lotteries of applicants, and (2) conduct an evaluation of the impacts of the program.

The foundation of the evaluation will be a randomized control trial (RCT) comparing outcomes of eligible applicants (students and their parents) assigned by lottery to receive or not receive a scholarship. This design is consistent with the requirement for a rigorous evaluation as well as the need to fairly allocate the scholarships if the program is oversubscribed. Because the law also specified other kinds of comparisons and analyses, the planned evaluation study includes both quantitative and qualitative components.

Dated: February 11, 2013.
Stephanie Valentine,
Acting Director, Information Collection Clearance Division, Privacy, Information and Records Management Services, Office of Management.

[FR Doc. 2013-03531 Filed 2-14-13; 8:45 am]

BILLING CODE 4000-01-P